DEPARTMENT OF ENERGY

Federal Energy Regulatory Commission

[Docket No. RP00-151-001]

Northern Natural Gas Company; Notice of Proposed Changes in FERC Gas Tariff

January 12, 2000.

Take notice that on January 6, 2000, Northern Natural Gas Company (Northern), tendered for filing as part of its FERC Gas Tariff, Fifth Revised Volume No. 1, the following tariff sheets proposed to be effective January 29, 2000:

Fourth Revised Sheet No. 292

Second Revised Sheet No. 299A

Northern states that the purpose of this filing is to correct the superseding tariff sheet reference. No changes have been made to Northern's tariff provisions.

Northern further states that copies of the filing have been mailed to each of its customers and interested State Commissions.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http:///www.ferc.fed.us/online/rims.htm (call 202-208-2222 for assistance).

Linwood A. Watson, Jr.,
Acting Secretary.

[FR Doc. 00-1185 Filed 1-18-00; 8:45 am]

BILLING CODE 6717-01-M